ENVIRONMENTAL PROTECTION AGENCY

[OPPTS-140284; FRL-6497-8]

Access to Confidential Business Information by Chemical Abstract Services

AGENCY: Environmental Protection Agency (EPA).

ACTION: Notice.

SUMMARY: EPA has authorized its contractor Chemical Abstract Services (CAS) and its subcontractor TMC MicroImage, Inc., both of Columbus, Ohio, access to information which has been submitted to EPA under sections 5 and 8 of the Toxic Substances Control Act (TSCA). Some of the information may be claimed or determined to be confidential business information (CBI).

DATES: Access to the confidential data submitted to EPA occurred as a result of an approved waiver dated February 28, 2000, which requested granting CAS and TMC immediate access to TSCA CBI. This waiver was necessary to allow CAS and TMC to assist the Office of Pollution Prevention and Toxics (OPPT) in microfilming and processing TSCA CBI materials.

FOR FURTHER INFORMATION CONTACT: For General Information Contact: Barbara Cunningham, Director, Office of Program Management and Evaluation (7401), Office of Pollution Prevention and Toxics, Environmental Protection Agency, Ariel Rios Building, 1200 Pennsylvania Ave., NW., Washington, DC 20460, telephone number: (202) 554-1404; e-mail: TSCA-Hotline@epamail.epa.gov.

SUPPLEMENTARY INFORMATION:

I. Does this Notice Apply to Me?

This action is directed to the public in general. This action may, however, be of interest to “those persons who are or may be required to conduct testing of chemical substances under the Toxic Substances Control Act (TSCA).” Since other entities may also be interested, the Agency has not attempted to describe all the specific entities that may be affected by this action. If you have any questions regarding the applicability of this action to a particular entity, consult the person listed under FOR FURTHER INFORMATION CONTACT.

II. How Can I Get Additional Information, Including Copies of this Document or Other Related Documents?

Electronically. You may obtain electronic copies of this document, and certain other related documents that might be available electronically, from the EPA Internet Home Page at http://www.epa.gov/. To access this document, on the Home Page select “Laws and Regulations” and then look up the entry for this document under the “Federal Register—Environmental Documents.” You can also go directly to the Federal Register listings at http://www.epa.gov/fedrgstr/.

III. What Action is the Agency Taking?

Under contract number 68-W5-0015, contractor CAS and its subcontractor TMC, both of Columbus, Ohio, will assist the Office of Pollution Prevention and Toxics (OPPT) in microfilming and processing of TSCA CBI materials.

In accordance with 40 CFR 2.306(j), EPA has determined that under EPA contract number 68-W5-0015, CAS and TMC will require access to CBI submitted to EPA under sections 5 and 8 of TSCA to perform successfully the duties specified under the contract.

CAS and TMC personnel will be given access to information submitted to EPA under sections 5 and 8 of TSCA. Some of the information may be claimed or determined to be CBI. In a previous notice published in the Federal Register of February 24, 1998 (63 FR 9229) (FRL-5771-5), CAS and TMC were authorized access to TSCA CBI submitted to EPA under sections 5 and 8(b) of TSCA.

EPA is issuing this notice to inform all submitters of information under sections 5 and 8 of TSCA that EPA may provide CAS and TMC access to these CBI materials on a need-to-know basis only. All access to TSCA CBI under this contract will take place at either CAS' Columbus, Ohio facility or the subcontractor may take TSCA CBI materials to its facility for the purpose of microfilming, provided the transfer of materials is done so only under the direct supervision of a CAS official authorized for TSCA CBI access and that all TSCA CBI materials be returned daily to CAS' facility.

CAS and TMC will be authorized access to TSCA CBI at their facilities under the EPA TSCA Confidential Business Information Security Manual. Before access to TSCA CBI is authorized at CAS and TMC sites, EPA will perform the required inspection of its facilities and ensure that the facilities are in compliance with the Manual.

Upon completing review of the CBI materials, CAS will return all transferred materials to EPA.

Clearance for access to TSCA CBI under this contract may continue until June 30, 2000.

CAS and TMC personnel will be required to sign nondisclosure agreements and will be briefed on appropriate security procedures before they are permitted access to TSCA CBI.

List of Subjects

Environmental protection, Access to confidential business information.

Dated: March 13, 2000.
Allan S. Abramson,
Director, Information Management Division, Pollution Prevention and Toxics.

[FR Doc. 00-6979 Filed 3-20-00 8:45 am]

BILLING CODE 6560-50-F